ENVIRONMENTAL PROTECTION AGENCY

[FRL-9461-6]

Proposed Administrative Settlement Agreement and Order on Consent for Removal Action for 6472 Selkirk Avenue Superfund Site (a/k/a “Reclamation Oil Site”), Detroit, MI

AGENCY: Environmental Protection Agency (“EPA”).

ACTION: Notice of proposed settlement agreement and order on consent; request for public comment.

SUMMARY: Notice is hereby given that a proposed Administrative Settlement Agreement and Order on Consent for Removal Action (“AOC”) for a removal action at the 6472 Selkirk Avenue Superfund site (a/k/a “Reclamation Oil Site” or “Site”) has been negotiated by the United States Environmental Protection Agency (“EPA”) and the following potentially responsible parties (“PRPs”): Univar USA Inc., SPX Corporation, BorgWarner Inc., and Ford Motor Company subject to the final review and approval of EPA and the U.S. Department of Justice.

The proposed AOC relates to the removal action at the Reclamation Oil Site to be performed by the Respondents in exchange for a covenant by EPA not to sue for EPA's Past Response Costs incurred at the Site and to require Respondents to pay only the first fifty thousand dollars ($50,000) of Future Response Costs incurred at the Site.

The Site is located at 6472 Selkirk Avenue, Detroit, Wayne County, Michigan 48211. The Site is a partially fenced lot measuring 199 by 220 feet, approximately 1 acre in size. The work to be done by the Respondents includes: removal and disposal of concrete in areas to be excavated; excavate identified contaminated soils on Site above applicable Michigan Act 451, Part 201 Direct Contact Criteria for residential sites (“Part 201”); if field screening indicates that soil contamination exceeds Part 201 requirements at the Site boundaries, continue excavation to the extent practicable; collect and analyze excavation sidewall and floor confirmation soil samples in accordance with the State of Michigan Sampling Strategies and Statistics Training Materials for Part 201; removal and disposal of a storm drain on site; backfilling and compacting of all excavations with clean soil; and revegetating the area of excavation. Soils containing fifty (50) ppm of PCBs or more will be disposed of at a TSCA-regulated landfill; all other materials will be disposed of at a nonhazardous waste disposal facility (Michigan Type II disposal facility). This removal action will be conducted in accordance with the National Contingency Plan pursuant to Section 104(a)(1) of the Comprehensive Environmental Response, Compensation and Liability Act of 1980 (“CERCLA”), as amended, 42 U.S.C. 9604(a)(1).

EPA is negotiating the proposed AOC pursuant to its authority under Section 122 of CERCLA, 42 U.S.C. 9622. The PRPs will perform the activities EPA has determined are necessary to protect the public health and environment at the Site, which are estimated to cost approximately $1,016,863, in exchange for a covenant by EPA not to sue for Past Response Costs incurred at the Site, which are estimated to be $203,642.11, and for a requirement that the Respondents only pay the first fifty thousand ($50,000) of Future Response Costs incurred at the Site. EPA is proposing to compromise its response costs for this removal action is by approximately 25% under its “Orphan Share Policy” because there are a number of potentially responsible parties at the Site who are no longer financially viable and who are responsible for a substantial amount of the waste disposed of at the Site.

DATES: For thirty (30) days following the date of publication of this Notice, EPA will receive written comments relating to the cost forgiveness portions of the above referenced AOC. EPA will consider all comments received and will only approve the cost forgiveness portions of the AOC after the public comment period has ended and after it has considered all comments received.

ADDRESSES: EPA's response to any comments and the proposed AOC is available for public inspection at the EPA Superfund Record Center, Region 5, 77 West Jackson Boulevard, Chicago, Illinois, 60604-3590. Comments and requests for copies of the proposed AOC should be addressed to Karen L. Peaceman, Associate Regional Counsel, EPA Region 5, Mail Code 14-J, 77 West Jackson Boulevard, Chicago, Illinois 60604-3590; E-mail: Peaceman.karen@epa.gov and should reference the 6472 Selkirk Avenue Superfund Site, Detroit, Michigan. A copy of the proposed AOC may also be found at the Detroit Public Library, 5201 Woodward Street, Detroit, MI 48202.

FOR FURTHER INFORMATION CONTACT: Karen L. Peaceman, Associate Regional Counsel, EPA Region 5, Mail Code 14-J, 77 West Jackson Boulevard, Chicago, Illinois, 60604-3590, (312) 353-5751.

Dated: September 6, 2011.
Richard C. Karl,
Director, Superfund Division, Region 5, U.S. Environmental Protection Agency.

[FR Doc. 2011-23364 Filed 9-12-11; 8:45 am]

BILLING CODE 6560-50-P